DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 15, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Food Supply Chain Guaranteed Loan Program.

OMB Control Number: 0570-0077.

Summary of Collection: Section 1001 of the American Recovery Act of 2021, Public Law 117-2 provided funding for fiscal year 2022 (FY22) to the Secretary of Agriculture to provide assistance to maintain and improve food and agricultural supply chain resiliency.

The purpose of the Food Supply Chain (FSC) Guaranteed loan is to make funds available to qualified applicants and projects to facilitate financing for the start-up or expansion of activities in the middle of the food supply chain, particularly the aggregation, processing, manufacturing, storing, transporting, wholesaling, or distribution of food, to increase capacity and help create a more resilient, diverse, and secure U.S. food supply chain.

Need and Use of the Information: Lenders wishing to apply for an FSC guarantee must submit applications with specified forms, proposals, certifications, and agreements to the Agency electronically through the FSC online application system. Lenders that receive FSC guarantees are also required to provide financial information and annual reports to the Agency to ensure that borrowers and projects remain viable.

The information provided will be used to determine applicant and project eligibility and to ensure that projects meet program goals and are for authorized purposes.

Description of Respondents: Businesses or other for-profits; Farms; Not-for-profit institutions.

Number of Respondents: 250.

Frequency of Responses: Reporting: Annually.

Total Burden Hours: 6,227.

Rural Business-Cooperative Service

Title: Rural Energy Pilot Program.

OMB Control Number: 0570-0078.

Summary of Collection: The Consolidated Appropriations Act, 2021 (Pub. L. 116-260) appropriated $10 million to remain available until expended for the Secretary of Agriculture to carry out a pilot program to provide financial assistance for rural communities to further develop renewable energy.

The Rural Business-Cooperative Service (Agency) announced the availability of up to $10 million in competitive grants awarded to Rural Energy Community Partnerships to further develop renewable energy to help meet our nation's energy needs and combat climate change while prioritizing environmental justice, racial equity, and economic opportunity.

Cost-share grants of up to 80 percent of total eligible project costs but not more than $2 million were made available to assist eligible entities with planning, installing, equipping, and maintaining community scale distributed/renewable energy technologies/systems/resources.

Need and Use of the Information: RBCS will collect information to determine whether participants meet the eligibility requirements to be a recipient of grant funds, project eligibility, conduct the technical evaluation, calculate a priority score, rank and compete the application, as applicable, in order to be considered. Lack of adequate information to make the determination could result in the improper administration and appropriation of Federal grant funds.

Applications must be submitted electronically using the Government-wide www.grants.gov website. No other form of application will be accepted.

Description of Respondents: Businesses or other for-profits; Not-for-profit institutions.

Number of Respondents: 100.

Frequency of Responses: Reporting: Annually.

Total Burden Hours: 4,622.

Levi S. Harrell,
Departmental Information Collection Clearance Officer.

[FR Doc. 2022-15028 Filed 7-13-22; 8:45 am]

BILLING CODE 3410-XY-P